DEPARTMENT OF THE INTERIOR

Fish and Wildlife Service

[FWS-R2-R-2009-N205; 20131-1265-2CCP-S3]

Aransas National Wildlife Refuge Complex, Aransas, Calhoun, and Refugio Counties, TX

AGENCY: Fish and Wildlife Service, Interior.

ACTION: Notice of availability: Draft comprehensive conservation plan and environmental assessment; request for comments.

SUMMARY: We, the U.S. Fish and Wildlife Service (Service), announce the availability of a draft comprehensive conservation plan (CCP) and an environmental assessment (EA) for the Aransas National Wildlife Refuge Complex (NWRC, Refuge) for public review and comment. In these documents, we describe alternatives, including our preferred alternative, to manage this Refuge complex for the 15 years following approval of the final CCP.

DATES: To ensure consideration, please send your written comments by April 13, 2010. We will announce upcoming public meetings in local news media.

ADDRESSES: You may submit comments or requests for copies or more information by any of the following methods. You may request hard copies or a CD-ROM of the documents by any of the following methods:

E-mail: Roxanne_Turley@fws.gov. Include “Aransas CCP” in the subject line of the message.

Fax: Attn: Roxanne Turley, 505-248-6874.

U.S. Mail: Roxanne Turley, Natural Resource Planner, U.S. Fish & Wildlife, Service, NWRS, Division of Planning, P.O. Box 1306, Albuquerque, NM 87103-1306.

In-Person Drop-off, Viewing, or Pickup: Call 505-248-6636 to make an appointment during regular business hours. You may drop off comments during regular business hours at 500 Gold Avenue, SW., 4th Floor, Room 4019, Albuquerque, NM 87102. For more information on locations for viewing or obtaining documents, see “Public Availability of Documents” under SUPPLEMENTARY INFORMATION.

FOR FURTHER INFORMATION CONTACT: Dan Alonso, Complex Manager, by U.S. mail at Aransas NWRC, CCP-Project, P.O. Box 100, Austwell, TX 77050; by phone at 361-286-3559; or by fax at 361-286-3722; or Felipe Prieto, Wildlife Refuge Specialist/CCP Planning Team, Aransas NWRC, by phone at 361-286-3559.

SUPPLEMENTARY INFORMATION:

Introduction

With this notice, we continue the CCP process for Aransas NWRC. We started this process through a notice in the Federal Register (67 FR 55862, August 30, 2002).

Aransas NWRC is located in Aransas, Calhoun, and Refugio Counties, Texas, and encompasses 115,931 acres of coastal prairie, oak woodland and savannah, barrier island, and salt and freshwater marshes. Management efforts focus on protecting, enhancing, and restoring Refuge habitats and water management for the benefit of important fish and wildlife resources.

Aransas NWRC was established “as a refuge and breeding grounds for birds,” by Executive Order No. 7784 on December 31, 1937. The authority of the Migratory Bird Conservation Act (16 U.S.C. 712d) establishes that each refuge in the system is “for use as an inviolate sanctuary, or any other management purpose, for migratory birds.” The Refuge Recreation Act (16 U.S.C. 460-1) states that each refuge in the system is “suitable for incidental fish and wildlife-oriented recreational development, the protection of natural resources, and the conservation of endangered or threatened species.” Additionally, Aransas NWRC contains critical habitat for the whooping crane (43 FR 20938, May 15, 1978).

Background

The CCP Process

The National Wildlife Refuge System Administration Act of 1966 (16 U.S.C. 668dd-668ee) (Administration Act), as amended by the National Wildlife Refuge System Improvement Act of 1997, requires a CCP for each national wildlife refuge. The purpose for developing a CCP is to provide refuge managers with a 15-year strategy for achieving refuge purposes and contributing toward the mission of the National Wildlife Refuge System, consistent with sound principles of fish and wildlife management, conservation, legal mandates, and Service policies. In addition to outlining broad management direction on conserving wildlife and their habitats, the CCPs identify wildlife-dependent recreational opportunities available to the public, including opportunities for hunting, fishing, wildlife observation and photography, and environmental education and interpretation. We will review and update these CCPs at least every 15 years in accordance with the Administration Act.

Public Outreach

To begin the CCP process, we held a comment period beginning on August 30, 2002, and ending on October 29, 2002 (67 FR 55862). We made draft documents and other relevant information available for public review at the Refuge headquarters. Prior to opening the public comment period, Refuge staff gathered in July and August 2002 to discuss concerns, issues, and opportunities for the future of the Refuge. In January 2003, we held seven open-house-style meetings at the Refuge Headquarters and in Rockport, Port Lavaca, Corpus Christi, Refugio, and Victoria, including one Partners meeting for the Golden Crescent Nature Club in February 2003. We intended these meetings to solicit initial public input and involvement during the early stages of CCP development. We also invited the State of Texas (Texas Parks and Wildlife Department) to participate as a partner in the planning process. We have considered and evaluated all of the comments we received, and have incorporated many of them into the various alternatives we addressed in the draft CCP and the EA.

CCP Alternatives We Are Considering

During the public scoping process with which we started work on this draft CCP, we, other governmental partners, and the public raised several issues. Our draft CCP addresses them. A full description of each alternative is in the EA. To address these issues, we developed and evaluated the following alternatives, summarized below.

| A: No-action alternative | B: Optimal habitat management and public use (proposed action) alternative | C: Maximal habitat management and public-use alternative
Issue 1: Habitat Management Activities | Biological program and habitat management would continue under existing plans, with the emphasis remaining primarily on migratory birds, waterfowl, and Federally listed species; the status quo would prevail without the benefit of holistic, long-term, and comprehensive guidance | Ecosystem-level management actions to better protect and preserve the natural diversity of unique habitats and sensitive wildlife through a holistic, partnered, and publicly involved approach would be implemented; current and future long-term benefits for migratory and resident birds, wildlife and their habitats, and the recovery of threatened and endangered species would be provided | Intensive management to achieve a predetermined amount of woodlands, wetlands, croplands, grasslands, shrublands, and water impoundments to benefit the highest possible variety of plants and wildlife would be implemented.
Issue 2: Improvements to Public Use Opportunities | Current public use under existing plans would continue; any expansions would occur opportunistically | An optimal, quality experience for the public. Priority wildlife-dependent uses would be emphasized, and other existing public uses would be allowed where appropriate | All priority public uses (hunting, fishing, wildlife observation, photography, and environmental education and interpretation) would be expanded significantly above current levels. Visitor facilities and interpretive and environmental education programs would be improved or developed.
Issue 3: Refuge Land and Boundary Protection | Currently, there is no active land acquisition or land protection plan. However, any future acquisitions would be based on an approved land protection plan, developed as a step-down plan of the CCP. Any additional lands added to the Refuge would be purchased from willing sellers as opportunities and funding arise | Same as Alternative A; however, additional land protection to address whooping crane flock expansion in the vicinity of the Refuge would be considered. The emphasis would remain on protecting whooping cranes and available acres of existing wetland or restorable wetland habitat and adjacent uplands in portions of Aransas, Calhoun, and Refugio Counties | Same as Alternative A.

Public Availability of Documents

In addition to any methods in ADDRESSES, you can view or obtain documents at the following locations:

• At the Aransas NWRC Headquarters Office, at 1 Wildlife Circle, near Austwell, TX, during the hours between 8 a.m. and 4:30 p.m., Monday through Friday.

• Agency Web site: http://www.fws.gov/southwest/refuges/Plan/index.html.

• At the following public libraries:

Library | Address | Phone No.
Victoria Public Library | 302 N Main St., Victoria, TX 77901 | 361-572-2701
Parkdale Branch Library | 1230 Carmel Pkwy, Corpus Christi, TX 78411 | 361-853-9961
Calhoun County Public Library | 200 West Mahan St., Port Lavaca, TX 77979 | 361-552-7323
Aransas County Public Library | 701 E Mimosa St., Rockport, TX 78382 | 361-790-0153

Submitting Comments/Issues for Comment

We consider comments substantive if they:

• Question, with reasonable basis, the accuracy of the information in the document;

• Question, with reasonable basis, the adequacy of the document;

• Present reasonable alternatives other than those presented in the document; and/or

• Provide new or additional information relevant to the document.

Next Steps

After this comment period ends, we will analyze the comments and address them in the form of a final CCP and finding of no significant impact.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: January 7, 2010.
Brian Millsap,
Acting Regional Director, Region 2.

[FR Doc. 2010-2911 Filed 2-11-10; 8:45 am]

BILLING CODE 4310-55-P